DEPARTMENT OF LABOR

Occupational Safety and Health Administration

[Docket No. OSHA-2012-0003]

Maritime Advisory Committee for Occupational Safety and Health (MACOSH)

AGENCY: Occupational Safety and Health Administration (OSHA), Labor.

ACTION: Notice of MACOSH meeting.

SUMMARY: This Federal Register notice announces meetings of the full Committee and the workgroups on February 22-23, 2012, in Washington, DC.

DATES: MACOSH meeting: MACOSH will meet from 9 a.m. until approximately 5 p.m. on February 22 and 23, 2012.

Submission of written statements, requests to speak, and requests for special accommodation: Written statements, requests to speak at the full Committee meeting, and requests for special accommodations for these meetings must be submitted (postmarked, sent, or transmitted) by February 15, 2012.

ADDRESSES: The Committee and workgroups will meet at the U.S. Department of Labor, 200 Constitution Avenue NW., Washington, DC 20210.

Submission of written statements and requests to speak: You may submit written statements and requests to speak at the MACOSH meetings, identified by the docket number for this Federal Register notice (Docket No. OSHA-2012-0003), by one of the following methods:

Electronically: You may submit comments and attachments electronically at http://www.regulations.gov, which is the Federal eRulemaking Portal. Follow the instructions online for submitting comments.

Facsimile: If your comments, including attachments, are not longer than 10 pages, you may fax them to the OSHA Docket Office at (202) 693-1648.

Regular mail, express mail, hand (courier) delivery, and messenger service: When using this method, you must submit a copy of your comments and attachments to the OSHA Docket Office, Docket No. OSHA-2012-0003, U.S. Department of Labor, Occupational Safety and Health Administration, Room N-2625, 200 Constitution Avenue NW., Washington, DC 20210. Deliveries (express mail, hand (courier) delivery, and messenger service) are accepted during the Department of Labor's and Docket Office's normal business hours, 8:15 a.m. to 4:45 p.m., e.t.

Requests for special accommodations: Submit requests for special accommodations for MACOSH and its workgroup meetings by hard copy, telephone, or email to: Ms. Veneta Chatmon, OSHA, Office of Communications, Room N-3647, U.S. Department of Labor, 200 Constitution Avenue NW., Washington, DC 20210; telephone: (202) 693-1999; email chatmon.veneta@dol.gov.

Instructions: All submissions must include the Agency name and docket number for this Federal Register notice (Docket No. OSHA-2012-0003). Because of security-related procedures, submissions by regular mail may result in a significant delay in receipt. Please contact the OSHA Docket Office for information about security procedures for making submissions by express mail, hand (courier) delivery, and messenger service.

OSHA will place written statements and requests to speak, including personal information provided, in the public docket which may be available online. Therefore, OSHA cautions interested parties about submitting personal information such as Social Security numbers and birthdates.

Docket: To read or download documents in the public docket for this MACOSH meeting, go to http://www.regulations.gov. All documents in the public docket are listed in the index; however, some documents (e.g., copyrighted material) are not publicly available to read or download through http://www.regulations.gov. All submissions are available for inspection and, when permitted, copying, at the OSHA Docket Office at the above address. For information on using http://www.regulations.gov to make submissions or to access the docket, click on the “Help” tab at the top of the Home page. Contact the OSHA Docket Office for information about materials not available through that Web site and for assistance in using the Internet to locate submissions and other documents in the docket.

FOR FURTHER INFORMATION CONTACT: For press inquiries: Frank Meilinger, Director, OSHA Office of Communications, U.S. Department of Labor, Room N-3647, 200 Constitution Avenue NW., Washington, DC 20210; telephone: (202) 693-1999; email Meilinger.frank2@dol.gov.

For general information about MACOSH and this meeting: Bill Perry, Acting Director, Office of Maritime Standards, OSHA, U.S. Department of Labor, Room N-3609, 200 Constitution Avenue NW., Washington, DC 20210; telephone: (202) 693-2086; email perry.bill@dol.gov.

Copies of this Federal Register notice: Electronic copies of this Federal Register notice are available at http://www.regulations.gov. This notice, as well as news releases and other relevant information, are also available at OSHA's Web page at: http://www.osha.gov.

SUPPLEMENTARY INFORMATION: All MACOSH committee and workgroup meetings are open to the public. Interested persons may attend the full Committee and its workgroup meetings at the time and place listed above. The tentative agenda will include discussions on: Working safely around radiation; person in water (man overboard); confined space ventilation; safe entry and cleaning practices for vessel sewage tanks; best practices for eye injury reduction; hot work on hollow structures; injury and illness prevention programs; container handling equipment; semi-tractor tip-over; top/side handler operation safety; stay focused on safety while working on or around cargo handling equipment; safety zones between railcars and cargo handling equipment; and preventing chassis drivers from jostling in cabs.

The workgroups, which include Longshoring and Shipyard, will meet from 9 a.m. until approximately 5 p.m. on February 22, 2012, in Room S-4215. The workgroups will discuss topics listed in the previous paragraph, as well as other topics that may arise during the remainder of the current Committee charter. The full Committee will meet from 9 a.m. until about 5 p.m. on February 23, 2012, in Room N-3437 A, B, and C.

Public Participation

Any individual attending meetings at the U.S. Department of Labor must enter the building at the Visitors' Entrance at 3rd and C Streets NW., and pass through Building Security. Attendees must have valid government-issued photo identification to enter the building. Please contact Vanessa L. Welch at (202) 693-2080, email welch.vanessa@dol.gov for additional information about building security measures for attending the Committee and workgroup meetings. Interested parties may submit a request to make an oral presentation to MACOSH by any one of the methods listed in the ADDRESSES section above. The request must state the amount of time requested to speak, the interest represented (e.g., organization name), if any, and a brief outline of the presentation. Requests to address the full Committee may be granted as time permits and at the discretion of the MACOSH Chair.

Interested parties also may submit written statements, including data and other information, using any one of the methods listed in the ADDRESSES section above. OSHA will provide all submissions to MACOSH members prior to the meeting. Individuals who need special accommodations to attend the MACOSH meeting should contact Ms. Veneta Chatmon by one of the methods listed in the ADDRESSES section.

Authority and Signature

David Michaels, Ph.D., MPH, Assistant Secretary of Labor for Occupational Safety and Health, authorized the preparation of this notice under the authority granted by Sections 6(b)(1) and 7(b) of the Occupational Safety and Health Act of 1970 (29 U.S.C. 655, 656), the Federal Advisory Committee Act (5 U.S.C. App. 2), Secretary of Labor's Order No. 1-2012 (77 FR 3912), and 29 CFR part 1912.

Signed at Washington, DC, on January 30, 2012.
David Michaels,
Assistant Secretary of Labor for Occupational Safety and Health.

[FR Doc. 2012-2372 Filed 2-2-12; 8:45 am]

BILLING CODE 4510-26-P